DEPARTMENT OF TRANSPORTATION

Research and Special Programs Administration

[Docket No. RSPA-98-4957; Notice 29]

Pipeline Safety: Natural Gas Transmission and Distribution Pipeline Incident and Annual Report Forms

AGENCY: Research and Special Programs Administration (RSPA), DOT.

ACTION: Request for OMB Approval and Public Comment.

SUMMARY: As required by the Paperwork Reduction Act of 1995, the Research and Special Programs Administration (RSPA) published its intention to revise forms RSPA F 7100.2—Incident Report For Gas Transmission and Gathering Systems and RSPA F 7100.2-1—Annual Report For Gas Transmission and Gathering Systems (65 FR 47585-86 August 2, 2000). The purpose of this notice is to give the public an additional 30 days from the date of this notice to comment on the proposed changes in the natural gas transmission forms, and the information collection burden for both the revised natural gas transmission forms and the existing natural gas distribution forms. The natural gas distribution incident and annual report forms are not being revised at this time. Comments to the initial public comment request have been summarized in this notice.

DATES: Comments on this notice must be received on or before June 7, 2001.

FOR FURTHER INFORMATION CONTACT: Roger Little by telephone at 202-366-4569, by fax at 202-366-4566, by mail at U.S. Department of Transportation, RSPA, 400 Seventh Street, SW, Room 7128, Washington, DC, 20590, or by e-mail to roger.little@rspa.dot.gov.

ADDRESSES: Copies of this proposed information collection and the revised forms, RSPA F 7100.2—Incident Report for Gas Transmission and Gathering Systems and RSPA F 7100.2-1—annual Report for Gas Transmission and Gathering Systems, can be reviewed in this docket at http://dms.dot.gov. Dockets Facility, U.S. Department of Transportation, Plaza 401, 400 Seventh Street, SW, Washington, DC 20590-0001. Comments should be sent directly to the Office of Regulatory Affairs, Office of Management Budget, ATTN: RSPA Desk Officer, 726 Jackson Place, NW, Washington, DC 20503. See the Supplementary Information Section for additional filing information.

SUPPLEMENTARY INFORMATION:

Filing Information

The Dockets facility is open from 10:00 a.m. to 5:00 p.m., Monday through Friday, except federal holidays. All comments should identify the docket number of this notice, Docket No. RSPA-98-4957; Notice 29. You should submit the original and one copy. If you wish to receive confirmation of receipt of your comments, you must include a stamped, self-addressed postcard. To file written comments electronically, after logging onto http://dms.dot.gov, click on “Electronic Submission.” You can read comments and other material in the docket at this Web address: http://dms.dot.gov. General information about our pipeline safety program is available at this address: http://ops.dot.gov.

Background

RSPA posted a notice on August 2, 2000 in the Federal Register (Docket No. RSPA-98-4957) inviting comments on RSPA's proposed revisions to the Natural Gas Transmission and Gathering Pipeline Incident and Annual Report forms. This notice summarizes comments received during the comment period and updates the cost burden estimate for the revised natural gas transmission forms. Additionally, this notice updates the cost burden estimates for the existing Natural Gas Distribution Incident and Annual Report forms, which RSPA will consider revising at a later time.

To ensure adequate public protection from exposure to potential natural gas transmission pipeline failures, RSPA collects information on reportable transmission pipeline incidents. Additional information is also obtained concerning the characteristics of an operator's pipeline system, needed for normalizing the incident information in order to provide for adequate safety trending. The requirements for reporting incidents are found in 49 CFR part 191. Reports on transmission incidents must be submitted to RSPA in writing within 30 days of occurrence. The regulations require submission of the natural gas transmission annual report form by March 15 of each year for the preceding year's operations.

The information collected pertaining to reportable natural gas transmission incidents provide an important tool for identifying safety trends in the gas pipeline industry, but there are recognized problems with the current data collection. The National Transportation Safety Board (NTSB), the Department of Transportation's Office of Inspector General, and the General Accounting Office have urged RSPA to revise the information collected on the natural gas transmission pipeline incident report form and annual report form to improve its usefulness. NTSB Safety Recommendation P-96-1 urges RSPA to:

develop within 1 year and implement within 2 years a comprehensive plan for the collection and use of gas and hazardous liquid pipeline accident data that details the type and extent of data to be collected, to provide the Research and Special Programs Administration with the capability to perform methodologiclly sound accident trend analyses and evaluations of pipeline operator performance using normalized accident data.

RSPA worked with representatives of the Interstate Natural Gas Association of America (INGAA) and the American Gas Association (AGA) to review the natural gas transmission incident and annual report forms to make the information collected more useful to industry, government, and the public.

The reports that RSPA is currently revising covered by this Federal Register Notice are two of the four gas pipeline reporting forms authorized by Information Collection OMB 2137-0522, “Incident and Annual Reports for Gas Operators.” The proposed revisions are part of an ongoing process to revise all incident and annual reports. RSPA's calculations for natural gas distribution incident and operator annual reports reflect burden hours of unrevised formed. RSPA will look to revise natural gas distribution forms in the near future. At such a time when RSPA acts to revise the natural gas distribution forms, RSPA will publish a new notice with an updated burden hour estimate.

Previous Comments on Revision of Gas Transmission Forms

Several comments were received in response to the 60-day notice. The following is a discussion of the major comments. Many comments were of an editorial nature including improving the presentation of the form itself and the clarity of the instructions, and are not discussed here, however, these editorial changes were made on the forms. A few gas pipeline companies states that 30 days is not sufficient time to provide the necessary information. RSPA has always provided the opportunity for operators to provide more extensive information in the form of supplementary reporting. Some operators claimed that they do not keep information by class location in electronic format. This they states would cause them considerable expense. RSPA does not agree that this is a costly endeavor. Companies are already required to keep information on miles by class location. Large companies have generally implemented computer databases to track such information. Smaller companies that may have the information in hard copy should not have a difficult task in tallying mileage by class location using adding machines or computer spreadsheets. To tally such information for example for a company of 800 or fewer system miles where such information is kept in hard copy would require examining hard copies for 800 data points, adding them to the appropriate class category, and summing the totals. Such calculations are hardly complex and time consuming. Some operators objected to reporting information by class location at all. RSPA believes that this information is important because some requirements are based on the class location. It is important for RSPA to know whether added protections that are required in more heavily populated areas are in fact having the appropriate impact on public safety. Some operators objected to the idea of providing information on the age of the pipe because they did not have age information on all of their pipeline. RSPA allows operators who do not have age information to check off unknown on the age category. RSPA believes that age information is important to understanding it defects in pipe are age related. One operator suggested that each form should be on the OPS website as electronic filing will make reporting less burdensome. OPS agrees with this suggestion and will do so in the near future. One operator objected to having to provide pipeline information by state as being costly. OPS believes that it is important for state pipeline safety offices that pipeline information to provided by state. One state pipeline program asked for separate information on cast iron and wrought iron. RSPA believes that this is unnecessary as the amount of pipeline made of these products is rapidly being replaced by other products. This state program also requested more information by diameter of pipeline and more detail on third party damage and near misses. While this information may be useful, RSPA did not wish to add an undue burden on pipeline operators.

Information Collection Burden for Incident and Annual Reports for Natural Gas Pipeline Operators

Title: Incident Report for Gas Transmission and Gathering and Gas Distribution Systems (RSPA F 7100.2-1).

OMB Number: 2137-0522

Estimate of Burden: The average burden hours per response is approximately 6 hours for the revised transmission incident report; 3 hours for the revised transmission annual report; 4 hours for the distribution incident report; and 2 hours for the distribution annual report.

Respondents: Gas transmission pipeline operators and gas distribution pipeline operators. Estimated Number of Respondents: 900 gas transmission pipeline operators and 1,200 gas distribution pipeline operators.

Estimated Number of Responses per Respondent per Year: Natural Gas Transmission Incident Reports—0.1; Natural Gas Transmission Annual Reports—1.0. Natural Gas Distribution Incident Reports—0.167; Natural Gas Distribution Annual Reports—1.0.

Estimated Total Annual Burden on Respondents: The burden for each gas transmission pipeline operator is an average of 6 hours per incident report form and 3 hours per annual report form. For all 900 gas transmission pipeline operators, the burden estimate is 540 hours (6 hours × 900 operators × 0.1 incidents) for incidents and 2,700 hours (3 hours × 900 operators) for annual reports, for a total burden for natural gas transmission pipeline operators of 3,240 hours per annum.

The burden for each gas distribution pipeline operator is an average of 4 hours per incident report form and 2 hours per annual report form. For all 1,200 gas distribution pipeline operators, the burden estimate is 801.6 hours for incident reports (4 hours × 1,200 operators × 0.167 = approximately 800 hours for incidents) and 2,400 hours (2 hours × 1,200 operators) for annual reports.

An estimated 570 telephonic notification reports are prepared and received telephonically at 0.5 hours per report. The approximate total time required for processing telephonic reports is 285 hours.

The total burden for both natural gas distribution and natural gas transmission operators is (540 + 2,700 + 2,400 + 800 + 285) = 6,725 hours per annum.

Comments are invited on: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques.

Issued in Washington, DC on May 2, 2001.
Stacey L. Gerard,
Associate Administrator for Pipeline Safety.

[FR Doc. 01-11570 Filed 5-7-01; 8:45 am]

BILLING CODE 4910-60-M